DEPARTMENT OF ENERGY

Federal Energy Regulatory Commission

[Docket No. ER02-136-007, et al.]

Allegheny Power, et al.; Electric Rate and Corporate Filings

September 10, 2004.

The following filings have been made with the Commission. The filings are listed in ascending order within each docket classification.

1. Allegheny Power

[Docket No. ER02-136-007]

Take notice that, on September 7, 2004, Allegheny Power submitted a compliance filing pursuant to the Commission's Order of August 5, 2004 in Docket No. ER02-136-005.

Allegheny Power states that copies of the filing were served on parties on the official service list in the above-captioned proceeding.

Comment Date: 5 p.m. eastern time on September 28, 2004.

2. Geysers Power Company, LLC

[Docket Nos. ER02-188-001; ER02-236-002; ER02-407-002]

Take notice that on September 7, 2004, Geysers Power Company, LLC (Geysers Power) filed a refund report in compliance with the Commission's February 27, 2003 Order in Geysers Power Company, LLC, 102 FERC ¶ 61,221 (2003).

Geysers Power states that copies of the filing were served on all parties on the official service list in the above-captioned proceedings.

Comment Date: 5 p.m. eastern time on September 28, 2004.

3. California Independent System Operator Corporation

[Docket No. ER03-1046-006]

Take notice that on September 7, 2004, the California Independent System Operator Corporation (ISO) submitted a filing in compliance with the Commission's August 5, 2004 “Order on Rehearing and Compliance on Proposed Tariff Amendment No. 54”, 108 FERC ¶ 61,142.

The ISO states that this filing has been served upon all parties on the official service list for the captioned docket. In addition, the ISO has posted this filing on the ISO Home Page.

Comment Date: 5 p.m. eastern time on September 28, 2004.

4. Midwest Independent Transmission System Operator, Inc. and PJM Interconnection, L.L.C.

[Docket No. ER04-375-008]

Take notice that on September 7, 2004, the Midwest Independent Transmission System Operator, Inc. (Midwest ISO) and PJM Interconnection, L.L.C. (PJM), in compliance with the Commission's order in Midwest Independent Transmission System Operator, Inc., 108 FERC ¶ 61,431, submitted revisions to the Joint Operating Agreement Between The Midwest Independent Transmission System Operator, Inc. and PJM Interconnection, L.L.C., including Attachment 2 thereto entitled Congestion Management Process.

Midwest ISO states that copies of this filing were served upon all persons on the official service list compiled by Secretary in this proceeding, as well as all PJM members, and each State electric utility regulatory commission in the PJM regions.

Comment Date: 5 p.m. eastern time on September 28, 2004.

5. Midwest Independent Transmission System Operator, Inc.

[Docket No. ER04-458-003]

Take notice that, on September 7, 2004, the Midwest Independent Transmission System Operator, Inc. (Midwest ISO) submitted a compliance filing pursuant to the Commission's July 8, 2004 Order, Midwest Independent Transmission System Operator, Inc., 108 FERC ¶ 61,027 (2004). Midwest ISO states that the purpose of this filing is to revise the Midwest ISO's OATT to amend and clarify the application of Attachment X, Large Generator Interconnection Procedures (LGIP) in compliance with the Commission's directives in the July 8 Order.

The Midwest ISO states it has electronically served a copy of this filing, with attachments, upon all Midwest ISO Members, Member representatives of Transmission Owners and Non-Transmission Owners, the Midwest ISO Advisory Committee participants, as well as all State commissions within the region and in addition, the filing has been electronically posted on the Midwest ISO's Web site at http://www.midwestiso.org under the heading “Filings to FERC” for other interested parties in this matter. The Midwest ISO will provide hard copies to any interested parties upon request.

Comment Date: 5 p.m. eastern time on September 28, 2004.

6. California Independent System Operator Corporation

[Docket No. ER04-609-004]

Take notice that on September 7, 2004, the California Independent System Operator Corporation (ISO) submitted a filing in compliance with the Commission's August 5, 2004 “Order on Tariff Amendment No. 58”, 108 FERC ¶ 61,141.

The ISO states that this filing has been served upon all parties on the official service list for the above-captioned docket. In addition, the ISO has posted this filing on the ISO Home Page.

Comment Date: 5 p.m. eastern time on September 28, 2004.

7. Midwest Independent Transmission System Operator, Inc.

[Docket No. ER04-691-004]

Take notice that, on September 7, 2004, the Midwest Independent Transmission System Operator, Inc. (Midwest ISO) submitted a compliance filing pursuant to the Commission's August 6, 2004 Order, Midwest Independent Transmission System Operator, Inc., 108 FERC ¶ 61,163 (2004). Midwest ISO states that the purpose of this filing is to revise the Midwest ISO's Energy Markets Tariff to eliminate the Michigan specific energy imbalance provisions provided in Schedule 4.

The Midwest ISO states it has electronically served a copy of this filing, with attachments, upon all Midwest ISO Members, Member representatives of Transmission Owners and Non-Transmission Owners, the Midwest ISO Advisory Committee participants, as well as all State commissions within the region and in addition, the filing has been electronically posted on the Midwest ISO's Web site at http://www.midwestiso.org under the heading “Filings to FERC” for other interested parties in this matter. The Midwest ISO will provide hard copies to any interested parties upon request.

Comment Date: 5 p.m. Eastern Time on September 28, 2004.

8. Lower Mount Bethel Energy, LLC

[Docket No. ER04-1142-001]

Take notice that on September 10, 2004, Lower Mount Bethel Energy, LLC (LMBE) submitted an amendment to its Reactive Revenue Requirement Filing filed on August 20, 2004, in this proceeding. LMBE states that the amendment includes supplemental testimony and attachments to further support LMBE's reliance on the AEP allocators as proxies in LMBE's August 20, 2004 filing.

LMBE states that copies of the filing were served on parties on the official service list in the above-captioned proceeding.

Comment Date: 5 p.m. eastern time on September 24, 2004.

9. American Transmission Systems, Incorporated

[Docket No. ER04-1195-000]

Take notice that on September 7, 2004, American Transmission Systems, Incorporated (ATSI), filed a Construction Agreement with Buckeye Power, Inc. and Lorain-Medina Rural Electric Cooperative for construction of two new delivery points. The proposed effective date for the agreement is September 1, 2004.

ATSI states that copies of this filing have been served on Buckeye Power, Inc., Lorain-Medina Rural Electric Cooperative, and the Midwest ISO, and the public utility commissions of Ohio and Pennsylvania.

Comment Date: 5 p.m. eastern time on September 28, 2004.

10. California Independent System Operator Corporation

[Docket No. ER04-1198-000]

Take notice that on September 7, 2004, the California Independent System Operator Corporation (ISO) submitted an amendment to the ISO Tariff (Amendment No. 63). ISO states that Amendment No. 63 modifies its Tariff to accommodate the transfer by Western Area Power Administration, Sierra Nevada Region (Western) of Operational Control over Western's interest in the upgrade of Path 15 to the ISO. ISO further states that the amendment also modifies the ISO Tariff to provide several clarifications concerning cost recovery.

The ISO states that this filing has been served upon the Public Utilities Commission of the State of California, the California Energy Commission, the California Electricity Oversight Board, the Participating TOs, Western, and all parties with effective Scheduling Coordinator Agreements under the ISO Tariff and in addition, the ISO has posted this filing on the ISO Home Page.

Comment Date: 5 p.m. eastern time on September 28, 2004.

11. New England Power Pool

[Docket No. ER04-1199-000]

Take notice that on September 7, 2004, the New England Power Pool (NEPOOL) Participants Committee filed arrangements to compensate NRG Power Marketing, Inc., Connecticut Jet Power LLC, Middletown Power LLC and Montville Power LLC for costs incurred in connection with the operation of certain of its units at various times during the period of July 22, 2003 through January 24, 2004 at the direction of ISO New England Inc. A November 8, 2004 effective date is requested for the filing.

The NEPOOL Participants Committee states that copies of these materials were sent to the NEPOOL Participants and the New England State governors and regulatory commissions.

Comment Date: 5 p.m. eastern time on September 28, 2004.

12. SESCO Enterprises Canada Ltd.

[Docket No. ER04-1200-000]

Take notice that on September 7, 2003, SESCO Enterprises Canada Ltd. (SESCO) petitioned the Commission for acceptance of SESCO Rate Schedule No. 1; the granting of certain blanket approvals, including the authority to sell electricity at market-based rates; and the waiver of certain Commission regulations.

SESCO states that it intends to engage I wholesale electric power and energy purchases and sales as a marketer. SESCO further states it is not in the business of generating or transmitting electric power. SESCO also states that its only operating affiliate is also a marketer and is also not in the business of generating or transmitting electric power.

Comment Date: 5 p.m. eastern time on September 28, 2004.

13. Dynegy Power Marketing, Inc.

[Docket Nos. ER04-1203-000]

Take notice that on September 7, 2004, Dynegy Power Marketing, Inc. (DYPM) submitted for filing DYPM Rate Schedule FERC No. 5, an agreement between DYPM and Illinois Power and SYPM Rate Schedule No. 6, an agreement between DYPM and Illinois Power.

DYPM states that copies of the filing were served upon all parties to Docket Nos. ER04-673-000 and ER04-711-000.

Comment Date: 5 p.m. Eastern Time on September 28, 2004.

14. Xcel Energy Service Inc.

[Docket No. ER04-1207-000]

Take notice that on September 7, 2004, Xcel Energy Services Inc. (XES) filed an amendment to its market-based rate tariff. XES states that the purpose of this amendment is to delete the provision allowing for affiliate sales.

Comment Date: 5 p.m. eastern time on September 28, 2004.

15. Midwest Independent Transmission System Operator, Inc.

[Docket No. ES04-48-000]

Take notice that on September 2, 2004, Midwest Independent Transmission System Operator, Inc. (Midwest ISO) submitted an application pursuant to section 204 of the Federal Power Act seeking authorization to incur long-term indebtedness under a credit agreement in an amount not to exceed $60 million.

Midwest ISO also requests a waiver from the Commission's competitive bidding and negotiated placement requirements at 18 CFR 34.2.

Comment Date: 5 p.m. eastern time on September 23, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2233 Filed 9-17-04; 8:45 am]

BILLING CODE 6717-01-P